DEPARTMENT OF HEALTH AND HUMAN SERVICES

Health Care Financing Administration

[HCFA-1127-N]

Medicare Program; Open Public Meeting on March 15, 2000 To Provide an Overview of Data Requirements for Collection of Physician and Hospital Outpatient Encounter Data From Medicare+Choice Organizations for Risk Adjustment

AGENCY: Health Care Financing Administration (HCFA), HHS.

ACTION: Notice of meeting.

SUMMARY: This notice announces a public meeting to provide Medicare+Choice organizations, providers, practitioners, and other interested parties an overview of data requirements for physician and hospital outpatient encounter data. The meeting will address the following topics:

• Basic data requirements for physician encounter data.

• Basic data requirements for hospital outpatient encounter data.

• Update on training and customer support services.

DATES: The meeting is scheduled for March 15, 2000 from 9 a.m. until 4 p.m., e.s.t.

ADDRESSES: The meeting will be held in the HCFA Auditorium, 7500 Security Boulevard, Baltimore, Maryland, 21244-1850.

FOR FURTHER INFORMATION CONTACT: Ann Barcome, (301) 519-6700, encounterdata@aspensys.com.

SUPPLEMENTARY INFORMATION:

Background

The Balanced Budget Act of 1997 (BBA) (Pub. L. 105-33) established the Medicare+Choice program. Under the BBA, HCFA must implement a risk adjustment methodology that accounts for variations in per capita costs based on health status and other demographic factors for payment to Medicare+Choice organizations (M+COs). Risk adjustment implementation must start no later than January 1, 2000.

The BBA also gives HCFA the authority to collect inpatient hospital data for discharges on or after July 1, 1997, and additional data for services occurring on or after July 1, 1998. The schedule for physician and hospital outpatient encounter data submission is as follows:

• October 1, 2000: Submission of physician data begins.

• January 1, 2001: Submission of hospital outpatient data begins with dates of services retroactive to October 1, 2000.

This notice announces a public meeting to provide an opportunity for M+COs, providers, practitioners, and other interested parties to obtain basic information on the data requirements for the collection of physician and hospital outpatient encounter data. HCFA intends to provide additional information on our data collection efforts, systems processes, training approach, and customer services. HCFA will also follow-up this meeting with intensive training in the areas of physician and hospital outpatient encounter data that will occur in June and September, respectively.

HCFA is announcing this public meeting to provide an overview of physician and hospital outpatient data and to allow for individuals and organizations familiar with issues related to physician and hospital outpatient data collection to raise questions that can be answered in subsequent training. The agenda will include short presentations by HCFA staff and Aspen Systems Corporation, the encounter data training contractor, on related topics and will conclude with a question-and-answer session.

Registration

Registration for this public meeting is required and will be on a first-come, first-serve basis, limited to two attendees per organization. A waiting list will be available for additional requests. Registration will be done via the Internet at www.hcfa.gov/events or by paper forms available at the aforementioned Internet address. A confirmation notice will be sent to attendees upon finalization of registration.

Attendees will be provided with meeting materials at the time of the meeting. We will accept written questions or requests for meeting materials either before the meeting or up to 14 days after the meeting. Written submissions must be sent to: Aspen Systems Corporation, ATTN: Ann Barcome, 2277 Research Boulvevard, Rockville, Maryland 20850. You may contact Ann Barcome at: Telephone Number: (301) 519-6700, Fax Number: (301) 519-6360, E-mail: encounterdata@aspensys.com.

(Authority: Sections 1851 through 1859 of the Social Security Act (42 U.S.C. 1395w-21 through 1395w-28))

(Catalog of Federal Domestic Assistance Program No. 93.773 Medicare—Hospital Insurance Program; and No. 93.774, Medicare—Supplementary Medical Insurance Program)

Dated: February 18, 2000.
Nancy-Ann Min DeParle,
Administrator, Health Care Financing Administration.

[FR Doc. 00-4670 Filed 2-28-00; 8:45 am]

BILLING CODE 4120-01-P